ENVIRONMENTAL PROTECTION AGENCY

[FRL-7252-9 ]

Agency Information Collection Activities: Proposed Collection; Comment Request; 2003 Hazardous Waste (Biennial) Report

AGENCY: Environmental Protection Agency (EPA).

ACTION: Notice.

SUMMARY: We are announcing our plan to submit the following Information Collection Request (ICR) to the Office of Management and Budget (OMB): The 2003 Hazardous Waste Report, also known as the Biennial Report. Before submitting this ICR to OMB for review and approval, we are asking for comments on the information collection.

DATES: Comments must be submitted on or before October 15, 2002.

ADDRESSES: EPA, Office of Solid Waste (5302W), 1200 Pennsylvania Ave., NW., Washington, DC 20460.

FOR FURTHER INFORMATION CONTACT: Robert Burchard (703) 308-8450, fax: (703) 308-8433, burchard.robert@epa.gov.

SUPPLEMENTARY INFORMATION: Affected entities: Entities affected by this action are those which generate, treat, store, or dispose of hazardous waste.

Title: “The 2003 Hazardous Waste Report (Biennial Report)” EPA ICR No.0976.10, OMB Control No. 2050-0024.

This ICR renews an on-going information collection from hazardous waste generators and treatment, storage, or disposal facilities. This collection is done on a two year cycle, and is required by Sections 3002 and 3004 of the Resource Conservation and Recovery Act (RCRA). The information collected is collected via a mechanism known as the Biennial Report.

The Biennial Report provides information on the quantities, type, and management of hazardous waste in the United States. The Biennial Report data are used by EPA and the states to understand available capacity to treat, store, dispose, and recycle hazardous wastes; to provide information for analysis of trends in waste generation, waste treatment, recycling, and source reduction; to target facility inspections; and to understand how much waste a state receives from out of state or sends out of state.

Data are collected from respondents and entered into an electronic database by state and EPA Regions. States coordinate with EPA Regions and Headquarters to supply EPA with the data. These data are maintained in RCRAInfo, a database residing on centrally managed servers at the Agency's National Computing Center (accessible through the Envirofacts web page: www.epa.gov/enviro).

Once an initial version of the national database is compiled, EPA Headquarters coordinates a data quality review with the states and EPA Regions. This process identifies cases where the state or Region may want to confirm that data were correctly entered, and where they should contact a respondent to confirm what they reported and provide them with the opportunity to submit an updated report if the original contained errors. Following the submittal of revised data, no further changes are made to the database and it becomes the final version.

For the 2003 cycle, we plan to use most of the 2001 Biennial Report forms and instructions. There will be some small changes for 2003: eliminating the reporting of radioactive mixed waste, clarifying the explanations for some of the Source and Management codes, and providing better directions for determining which North American Industrial Classification System (NAICS) code is appropriate. We are eliminating radioactive mixed waste because the information is not used by program implementers. We plan to have the 2003 forms and instructions available to the public by the beginning of the 2003 calendar year.

Burden Statement

An agency may not conduct or sponsor, and a person is not required to respond to a collection of information unless it displays a valid OMB control number.

The EPA solicits comments to help us:

(i) Evaluate whether the information will have practical utility;

(ii) evaluate the accuracy of the Agency's burden estimate;

(iii) find ways to enhance the quality and utility of the information; and

(iv) minimize the burden of the information collection, such as using automated techniques.

Based on the 2001 Biennial Report ICR, EPA estimates there will be 20,300 respondents to the 2003 Biennial Report. We also estimate that Biennial Report will impose an annual burden of 195,200 hours on the states and regulated community and require the expenditure of $10,260,000.

The annual reporting burden is estimated at 17 hours per respondent, which includes time for reviewing instructions, gathering data, completing and reviewing the forms, and submitting the report. The annual record keeping requirement is estimated at 2.5 hours per respondent, which includes the time for filing and storing the Biennial Report submission for three years. Burden means the total time, effort, or financial resources expended to generate, maintain, retain, disclose or provide information.

Dated: August 6, 2002.
Elizabeth A. Cotsworth,
Director, Office of Solid Waste.

[FR Doc. 02-20454 Filed 8-12-02; 8:45 am]

BILLING CODE 6560-50-P